DEPARTMENT OF THE INTERIOR

Bureau of Land Management

[LLNVS03000.L51010000.ER0000.F09F8590; NVN-84359; 9-08807: TAS:14X5017]

Notice of Reopening of Public Comment Period To Prepare an Environmental Impact Statement for the Proposed Solar Millennium, LLC, Amargosa Farm Road Solar Energy Project, Nye County, Nevada

AGENCY: Bureau of Land Management, Interior.

ACTION: Notice.

SUMMARY: The Bureau of Land Management (BLM) is reopening the public comment period to prepare an Environmental Impact Statement (EIS) for the Proposed Solar Millennium, LLC, Amargosa Farm Road Solar Energy Project. A notice published in the Federal Register on Monday, July 13, 2009 [74 FR 33458] provided for a public comment period ending on August 12, 2009.

DATES: On publication of this notice an additional 30-day scoping period will open for comments through October 19, 2009. Comments received during the interim time between scoping periods will be accepted.

ADDRESSES: Submit comments related to the project by any of the following methods:

• E-mail: solar_millennium@blm.gov.

• Fax: (702) 515-5023, Attn: Gregory Helseth.

• Mail: BLM, Las Vegas Field Office, Attn: Gregory Helseth, 4701 North Torrey Pines Drive, Las Vegas, NV 89130-2301.

FOR FURTHER INFORMATION CONTACT: Gregory Helseth, Renewable Energy Project Manager, at (702) 515-5173; or e-mail at solar_millennium@blm.gov.

(Authority: 43 CFR Part 2800)

Ron Wenker,
State Director, Nevada.

[FR Doc. E9-22441 Filed 9-16-09; 8:45 am]

BILLING CODE 4310-HC-P